DEPARTMENT OF TRANSPORTATION

Federal Aviation Administration

14 CFR Part 39

[Docket No. 2003-NE-30-AD; Amendment 39-13295; AD 2003-18-04]

RIN 2120-AA64

Airworthiness Directives; Wytwornia Sprzetu Komunikacyjnego (WSK) PZL-10W Turboshaft Engines

AGENCY: Federal Aviation Administration (FAA), DOT.

ACTION: Final rule; request for comments.

SUMMARY: The FAA is adopting a new airworthiness directive (AD) for Wytwornia Sprzetu Komunikacyjnego (WSK) PZL-10W turboshaft engines. This AD requires a one-time inspection of the four engine-to-gearbox pin retaining joints for loose or improperly crimped retaining nuts and damaged bolts on certain serial number engines. This AD is prompted by reports of loose or improperly crimped engine-to-gearbox pin joint retaining nuts found during overhaul. We are issuing this AD to prevent loss of nut torque and loosening of engine-to-gearbox pin joint retaining nuts, which could result in misalignment of the engine to the gearbox, causing loss of drive to the gearbox, power turbine overspeed, and uncontained power turbine disc failure.

DATES: Effective September 23, 2003. The Director of the Federal Register approved the incorporation by reference of certain publications listed in the regulations as of September 23, 2003.

We must receive any comments on this AD by November 7, 2003.

ADDRESSES: Use one of the following addresses to submit comments on this AD:

• By mail: The Federal Aviation Administration (FAA), New England Region, Office of the Regional Counsel, Attention: Rules Docket No. 2003-NE-30-AD, 12 New England Executive Park, Burlington, MA 01803-5299.

• By fax: (781) 238-7055.

• By e-mail: 9-ane-adcomment@faa.gov

You can get the service information referenced in this AD from Wytwornia Sprzetu Komunikacyjnego “PZL—Rzeszow” S. A., ul. Hetmanska 120, 35-078 Rzeszow, P.O. Box 340, Poland, telephone 011-48-17-85-46-100; fax 011-48-17-620-750.

You may examine the AD docket, by appointment, at the FAA, New England Region, Office of the Regional Counsel, 12 New England Executive Park, Burlington, MA. You may examine the service information, at the FAA, New England Region, Office of the Regional Counsel, 12 New England Executive Park, Burlington, MA; or at the Office of the Federal Register, 800 North Capitol Street, NW., suite 700, Washington, DC.

FOR FURTHER INFORMATION CONTACT: James Lawrence, Aerospace Engineer, Engine Certification Office, FAA, Engine and Propeller Directorate, 12 New England Executive Park; Burlington, MA 01803-5299; telephone (781) 238-7176; fax (781) 238-7199.

SUPPLEMENTARY INFORMATION: The Polish General Inspectorate of Civil Aviation, which is the airworthiness authority for Poland, recently notified the FAA that an unsafe condition may exist on Wytwornia Sprzetu Komunikacyjnego (WSK) PZL-10W turboshaft engines. The Polish General Inspectorate of Civil Aviation advises that reports have been received of loose or improperly crimped engine-to-gearbox pin joint retaining nuts and damaged bolts found during overhaul.

Relevant Service Information

We have reviewed and approved the technical contents of Wytwornia Sprzetu Komunikacyjnego Obligatory Service Bulletin (OSB) No. E-19W096/2000, (original issue—2000), that describes procedures for performing a one-time inspection of the four engine-to-gearbox pin retaining joints for loose or improperly crimped retaining nuts and damaged bolts on the serial number PZL-10W engines listed in the OSB. The Polish General Inspectorate of Civil Aviation classified this OSB as mandatory and issued AD No. SP-0008-2001-B, dated October 2, 2001.

Bilateral Airworthiness Agreement

This engine model is manufactured in Poland and is type certificated for operation in the United States under the provisions of section 21.29 of the Federal Aviation Regulations (14 CFR 21.29) and the applicable bilateral airworthiness agreement. Under this bilateral airworthiness agreement, the Polish General Inspectorate of Civil Aviation has kept the FAA informed of the situation described above. We have examined the findings of the Polish General Inspectorate of Civil Aviation, reviewed all available information, and determined that AD action is necessary for products of this type design that are certificated for operation in the United States.

FAA's Determination and Requirements of This AD

Although no helicopters that are registered in the United States use these PZL-10W turboshaft engines, the possibility exists that the PZL-10W turboshaft engines could be used on helicopters that are registered in the United States in the future. The unsafe condition described previously is likely to exist or develop on other WSK PZL-10W turboshaft engines of the same type design. We are issuing this AD to prevent loss of nut torque and loosening of engine-to-gearbox pin joint retaining nuts, which could result in misalignment of the engine to the gearbox, causing loss of drive to the gearbox, power turbine overspeed, and uncontained power turbine disc failure. This AD requires performing a one-time inspection of the four engine-to-gearbox pin retaining joints for loose or improperly crimped retaining nuts and damaged bolts on the serial number PZL-10W engines listed in OSB No. E-19W096/2000, (original issue—2000). You must use the service information described previously to perform the actions required by this AD.

FAA's Determination of the Effective Date

Since there are currently no domestic operators of this engine model, notice and opportunity for public comment before issuing this AD are unnecessary. Therefore, a situation exists that allows the immediate adoption of this regulation.

Changes to 14 CFR Part 39—Effect on the AD

On July 10, 2002, we issued a new version of 14 CFR part 39 (67 FR 47997, July 22, 2002), which governs our AD system. This regulation now includes material that relates to special flight permits, alternative methods of compliance, and altered products. This material previously was included in each individual AD. Since this material is included in 14 CFR part 39, we will not include it in future AD actions.

Comments Invited

This AD is a final rule that involves requirements affecting flight safety and was not preceded by notice and an opportunity for public comment; however, we invite you to submit any written relevant data, views, or arguments regarding this AD. Send your comments to an address listed under ADDRESSES. Include “AD Docket No. 2003-NE-30-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You may get more information about plain language at http://www.faa.gov/language and http://www.plainlanguage.gov.

Examining the AD Docket

You may examine the AD Docket (including any comments and service information), by appointment, between 8:00 a.m. and 4:30 p.m., Monday through Friday, except Federal holidays. See ADDRESSES for the location.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-30-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2003-18-04—Wytwornia Sprzetu Komunikacyjnego: Amendment 39-13295. Docket No. 2003-NE-30-AD.

Effective Date

(a) This airworthiness directive (AD) becomes effective September 23, 2003.

Affected ADs

(b) None.

Applicability

(c) This AD applies to Wytwornia Sprzetu Komunikacyjnego (WSK) PZL-10W turboshaft engines listed by serial number in Wytwornia Sprzetu Komunikacyjnego Obligatory Service Bulletin (OSB) No. E-19W096/2000, (original issue—2000). These PZL-10W turboshaft engines are installed on, but not limited to PZL-SOKOL helicopters.

Unsafe Condition

(d) This AD was prompted by reports of loose or improperly crimped engine-to-gearbox pin joint retaining nuts and damaged bolts found during overhaul. We are issuing this AD to prevent loss of nut torque and loosening of engine-to-gearbox pin joint retaining nuts, which could result in misalignment of the engine to the gearbox, causing loss of drive to the gearbox, power turbine overspeed, and uncontained power turbine disc failure.

Compliance

(e) You are responsible for having the actions required by this AD performed before further flight after the effective date of this AD, unless the actions have already been done.

Inspection

(f) Inspect the four engine-to-gearbox pin retaining joints for loose or improperly crimped retaining nuts and damaged bolts on the serial number engines listed in WSK Obligatory Service Bulletin (OSB) No. E-19W096/2000, (original issue—2000), and replace loosened or improperly crimped nuts, damaged bolts and washers. Use Chapter II of Accomplishment Instructions of OSB No. E-19W096/2000, (original issue—2000) to do these actions.

Alternative Methods of Compliance

(g) The Manager, Engine Certification Office, has the authority to approve alternative methods of compliance for this AD if requested using the procedures found in 14 CFR 39.19.

Special Flight Permits

(h) Special flight permits are prohibited.

Material Incorporated by Reference

(i) You must use Wytwornia Sprzetu Komunikacyjnego Obligatory Service Bulletin No. E-19W096/2000, (original issue—2000) to perform the inspection required by this AD. The Director of the Federal Register approved the incorporation by reference of this service bulletin in accordance with 5 U.S.C. 552(a) and 1 CFR part 51. You can get a copy from Wytwornia Sprzetu Komunikacyjnego “PZL—Rzeszow” S. A., ul. Hetmanska 120, 35-078 Rzeszow, P.O. Box 340, Poland, telephone 011-48-17-85-46-100; fax 011-48-17-620-750. You may review copies at the FAA, New England Region, Office of the Regional Counsel, 12 New England Executive Park, Burlington, MA; or at the Office of the Federal Register, 800 North Capitol Street, NW., suite 700, Washington, DC.

Related Information

(j) Polish General Inspectorate of Civil Aviation AD No. SP-0008-2001-B, dated October 2, 2001, also addresses the subject of this AD.

Issued in Burlington, Massachusetts, on August 28, 2003.
Jay J. Pardee,
Manager, Engine and Propeller Directorate, Aircraft Certification Service.

[FR Doc. 03-22620 Filed 9-5-03; 8:45 am]

BILLING CODE 4910-13-P